DEPARTMENT OF ENERGY

Federal Energy Regulatory Commission

[Docket No. EL04-111-000]

Cedar II Power Corporation; Notice of Filing

September 7, 2004.

Take notice that on September 7, 2004, Cedar II Power Corporation (Cedar II), pursuant to Rule 602 of the Commission's Rules of Practice and Procedures, 18 CFR 385.602 (2004), submitted for filing an executed Settlement Agreement. Cedar II states that the Settlement Agreement resolves all issues in the pending petition for declaratory order filed with the Commission on June 18, 2004.

In accordance with Rule 602(f) of the Commission Rules of Practice and Procedure, 18 CFR 385.602(f), any person desiring to comment on this Offer of Settlement should file its comments with the Federal Energy Regulatory Commission, 888 First Street, NE., Washington, DC 20426, by September 15, 2004. Reply comments will be due no later than September 17, 2004. This filing is available for review at the Commission in the Public Reference Room or may be viewed on the Commission's Web site at http://www.ferc.gov using the “eLibrary” link. Enter the docket number excluding the last three digits in the docket number field to access the document. For assistance with any FERC Online service, please e-mail FERCOnlineSupport@ferc.gov or call toll-free (866) 208-3676, for TTY, call (202) 502-8659.

Linda Mitry,
Acting Secretary.

[FR Doc. E4-2175 Filed 9-13-04; 8:45 am]

BILLING CODE 6717-01-P